DEPARTMENT OF AGRICULTURE

Food and Nutrition Service

7 CFR Part 275

[FNS-2024-0030]

RIN 0584-AF05

Supplemental Nutrition Assistance Program Quality Control Review Handbook Incorporation by Reference

Correction

In proposed rule document 2024-30578 beginning on page 266 in the issue of Friday, January 3, 2025, make the following correction:

On page 266, in the first column, in the second line under the DATES heading, “March 4, 2024” should read “March 4, 2025”.

[FR Doc. C1-2024-30578 Filed 1-23-25; 8:45 am]

BILLING CODE 0099-10-D